DEPARTMENT OF AGRICULTURE

Farm Service Agency

Information Collection; Certified Mediation Program

AGENCY: Farm Service Agency, USDA.

ACTION: Notice and request for comments.

SUMMARY: In accordance with the Paperwork Reduction Act of 1995, the Farm Service Agency (FSA) is seeking comments from all interested individuals and entities on the extension and revision of a currently approved information collection that supports the Certified Mediation Program. The collection of information by mail, phone, fax, in person, and by the internet utilized by FSA to initially determine whether the State meets the eligibility criteria to be a recipient of grant funds, and to determine if the grant is being properly administered. Lack of adequate information to make these determinations could result in the improper administration and appropriation of Federal grant funds.

DATES: Comments on this notice must be received on or before October 31, 2006 to be assured consideration.

ADDRESSES: Comments concerning this notice should be address to Chester Bailey, Mediation Coordinator, USDA, FSA, Outreach Staff, Suite 508 Portals Building, Stop 0511, 1400 Independence Avenue, SW., Washington, DC 20250 and to: the Desk Officer for Agriculture, Office of Information and Regulatory Affairs, Office of Management and Budget, Washington, DC 20503. Comments may be submitted by e-mail to chester.bailey@wdc.usda.gov. Copies of the information collection may be obtained by contacting Chester Bailey at (202) 720-1471.

FOR FURTHER INFORMATION CONTACT: Chester Bailey, FSA, Outreach Staff, telephone (202) 720-1471.

SUPPLEMENTARY INFORMATION: Title: Certified Mediation Program.

OMB Control Number: 0560-0165.

Expiration Date of Approval: March 31, 2007.

Type of Request: Extension and Revision of Currently Approved Information Collection.

Abstract: This information is needed for FSA to effectively administer the Certified Mediation Program in accordance with Subtitles A and B of Title V of the Agricultural Credit Act of 1987 (Pub. L. 100-233), as amended. FSA requires some of the information it collects to be reported in a standard manner. Although other institutions, public and private, generally require and collect information similar to that requested by FSA, there is a wide diversity in reporting practices.

The amendment contained in this information collection that requires clearance by OMB is “Agricultural Mediation and Related Requirements including, State Certification and Grant Administration Provisions.” The information to be collected includes an application for certification, re-verification for subsequent annual approval, SF-424 Application for Federal Assistance, financial management systems and reporting requirements, and audit reports. No additional information is being requested; however, the estimated number of respondents has increased from 29 to 32.

The information requested is reported annually and is necessary for the FSA to determine eligibility and administer the mediation grant program in an equitable and cost-effective manner.

Estimate of Burden: The public reporting burden for this information collection is estimated to average 34 hours per respondent.

Respondents: State Agencies.

Estimated Number of Respondents: 32.

Estimate Number of Responses per Respondent: 6.

Estimated Total Annual Burden on Respondents: 1088 hours.

Comment is invited on: (a) Whether the collection of information is necessary for the above stated purposes and the proper performance of FSA, including whether the information will have practical utility; (b) the accuracy of the agency's estimate of burden, including the validity of the methodology and assumptions used; (c) ways to enhance the quality, utility and clarity of the information being collected; and (d) ways to minimize the burden of the collection of information on those who are to respond, including through the use of appropriate automated, electronic, mechanical, or other technological collection techniques or other forms of information technology.

All comments received in response to this notice will be a matter of public record.

Signed in Washington, DC, on August 24, 2006.
Teresa C. Lasseter,
Administrator, Farm Service Agency.

[FR Doc. E6-14554 Filed 8-31-06; 8:45 am]

BILLING CODE 3410-05-P